FEDERAL COMMUNICATIONS COMMISSION

47 CFR Part 73

[DA 00-2362; MM Docket No. 00-83; RM-9849]

Radio Broadcasting Services; Butte Falls, OR

AGENCY: Federal Communications Commission.

ACTION: Final rule.

SUMMARY: The Commission, at the request of Butte Falls Radio, allots Channel 225A to Butte Falls, OR, as the community's first local aural service. See 65 FR 34997, June 1, 2000. Channel 225A is allotted instead of the originally proposed Channel 255A in order to avoid a short-spacing to the proposed allotment of Channel 255A at Hornbrook, CA, in MM Docket No. 00-73. Channel 225A can be allotted to Butte Falls in compliance with the Commission's minimum distance separation requirements with a site restriction of 3.4 kilometers (2.1 miles) northwest, at coordinates 42-33-33 NL; 122-36-13 WL, to avoid a short-spacing to Stations KLAD-FM, Channel 223C, Klamath Falls, OR, and KKNU, Channel 226C, Springfield, Oregon. A filing window for Channel 225A at Butte Falls will not be opened at this time. Instead, the issue of opening a filing window for this channel will be addressed by the Commission in a subsequent order.

DATES: Effective December 11, 2000.

FOR FURTHER INFORMATION CONTACT: Leslie K. Shapiro, Mass Media Bureau, (202) 418-2180.

SUPPLEMENTARY INFORMATION: This is a synopsis of the Commission's Report and Order, MM Docket No. 00-83, adopted October 11, 2000, and released October 20, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

47 CFR PART 73—RADIO BROADCAST SERVICES

1. The authority citation for part 73 continues to read as follows:

Authority: 47 U.S.C. 154, 303, 334. 336.

§ 73.202 [Amended]

2. Section 73.202(b), the Table of FM Allotments under Oregon, is amended by adding Butte Falls, Channel 225A.

Federal Communications Commission.
John A. Karousos,
Chief, Allocations Branch, Policy and Rules Division, Mass Media Bureau.

[FR Doc. 00-28881 Filed 11-9-00; 8:45 am]

BILLING CODE 6712-01-P